CONSUMER PRODUCT SAFETY COMMISSION

Petition HP 01-3 Requesting a Ban of Chromated Copper Arsenate (CCA)-Treated Wood in Playground Equipment

Correction

In notice document 03-3824 beginning on page 7510 in the issue of Friday, February 14, 2003, make the following corrections:

1. On page 7510, in the second column, under the SUMMARY heading, in the first paragraph, in the fourth line, “CPCS” should read, “CPSC”.

2. On the same page, under the same heading, in the same paragraph, in the eighth line, “CPSE” should read, “CPSC”.

3. On the same page, in the third column, under the ADDRESSES heading, in the sixth line, “spsc-os@cpsc.gov” should read, “cpsc-os@cpsc.gov”.

[FR Doc. C3-3824 Filed 2-19-03; 8:45 am]

BILLING CODE 1505-01-D

DEPARTMENT OF THE TREASURY

Bureau of Alcohol, Tobacco, and Firearms

27 CFR Part 55

[Notice No. 968]

RIN 1512-AB48

Commerce in Explosives (2000R-9P)

Correction

In proposed rule document 03-1946 beginning on page 4406 in the issue of Wednesday, January 29, 2003 make the following correction:

§ 55.208 [Corrected]

On page 4420, in §55.208, in the first column, in paragraph (a)(2)(i), in the fourth line, “January 29, 2004” should read “[Insert Date 1 Year After the Date of Publication of the Final Rule in the Federal Register]”.

[FR Doc. C3-1946 Filed 2-19-03; 8:45 am]

BILLING CODE 1505-01-D